DEPARTMENT OF AGRICULTURE

Animal and Plant Health Inspection Service

7 CFR Part 301

[Docket No. APHIS-2007-0032]

RIN 0579-AC38

Citrus Canker; Interstate Movement of Regulated Nursery Stock From Quarantined Areas

AGENCY: Animal and Plant Health Inspection Service, USDA.

ACTION: Interim rule; reopening of comment period.

SUMMARY: We are reopening the comment period for our interim rule that amended the citrus canker quarantine regulations to explicitly prohibit, with limited exceptions, the interstate movement of regulated nursery stock from a quarantined area. One of those exceptions was a provision that allows calamondin and kumquat plants, two types of citrus plants that have been considered to be highly resistant to citrus canker, to be moved interstate from a quarantined area under a protocol designed to ensure that they are free of citrus canker prior to movement. However, following publication of the interim rule, several samples from calamondin plants growing in a quarantined area were found to be infected with citrus canker. Based on that finding, it appears that it will be necessary to remove calamondin plants from the protocol when we publish an upcoming rule that will finalize the interim rule. Before we publish that final rule, however, we are reopening the comment period for the interim rule to provide interested persons with an opportunity to prepare and submit comments regarding calamondin plants and the interstate movement protocol.

DATES: We will consider all comments that we receive on or before February 28, 2008.

ADDRESSES: You may submit comments by either of the following methods:

• Federal eRulemaking Portal: Go to http://www.regulations.gov/fdmspublic/component/main?main=DocketDetail&d=APHIS-2007-0032 to submit or view comments and to view supporting and related materials available electronically.

• Postal Mail/Commercial Delivery: Please send two copies of your comment to Docket No. APHIS-2007-0032, Regulatory Analysis and Development, PPD, APHIS, Station 3A-03.8, 4700 River Road Unit 118, Riverdale, MD 20737-1238. Please state that your comment refers to Docket No. APHIS-2007-0032.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Mr. Stephen Poe, Senior Operations Officer, Emergency and Domestic Programs, Plant Protection and Quarantine, APHIS, 4700 River Road Unit 137, Riverdale, MD 20737-1231; (301) 734-4387.

SUPPLEMENTARY INFORMATION:

Background

On March 22, 2007, we published in the Federal Register (72 FR 13423-13428; Docket No. APHIS-2007-0032) an interim rule ¹ that amended the citrus canker quarantine regulations to explicitly prohibit, with certain limited exceptions, the interstate movement of regulated nursery stock from a quarantined area. The interim rule was effective on March 16, 2007. We took that action because the interstate movement of regulated nursery stock from an area quarantined for citrus canker poses a high risk of spreading citrus canker outside the quarantined area. The interim rule included two exceptions to the prohibition. We continued to allow the interstate movement of regulated nursery stock for immediate export, under certain conditions. We also allowed calamondin and kumquat plants, two types of citrus plants that were considered to have a high degree of biological resistance to citrus canker, to be moved interstate from a quarantined area under a protocol designed to ensure that they are free of citrus canker prior to movement.

¹ To view the interim rule, comments we received, and all related documents, go to http://www.regulations.gov/fdmspublic/component/main?main=DocketDetail&d=APHIS-2007-0032.

In July 2007, officials from our Center for Plant Health Science and Technology (CPHST) confirmed that samples obtained from 15 calamondin plants growing in an area quarantined for citrus canker were infected with the disease. Based on those findings, we now consider it probable that the interstate movement of calamondin plants from a quarantined area, even under the conditions of the protocol, presents a disease risk pathway for the spread of citrus canker. Therefore, we consider it prudent to amend the regulations to remove calamondin plants from the protocol.

We would make that amendment in an upcoming rule that will finalize our March 2007 interim rule. Accordingly, we are reopening the comment period for the interim rule for an additional 30 days. This action will allow interested persons an opportunity to prepare and submit comments regarding calamondin plants and the interstate movement protocol.

Authority: 7 U.S.C. 7701-7772 and 7781-7786; 7 CFR 2.22, 2.80, 371.3.

Section 301.75-15 is issued under Sec. 204, Title II, Public Law 106-113, 113. Stat. 1501A-293; sections 301.75-15 and 301.75-16 issued under Sec. 203, Title II, Public Law 106-224, 114 Stat. 400 (7 U.S.C. 1421 note).

Done in Washington, DC, this 23rd day of January 2008.
Kevin Shea,
Acting Administrator, Animal and Plant Health Inspection Service.

[FR Doc. E8-1534 Filed 1-28-08; 8:45 am]

BILLING CODE 3410-34-P